DEPARTMENT OF THE INTERIOR

Fish and Wildlife Service

[Docket No. FWS-HQ-IA-2018-0083; FXIA16710900000-178-FF09A30000]

Foreign Endangered Species; Marine Mammals; Receipt of Permit Applications

AGENCY: Fish and Wildlife Service, Interior.

ACTION: Notice of receipt of permit applications.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is acquired that allows such activities. The ESA and MMPA also require that we invite public comment before issuing permits for activities involving endangered species or marine mammals.

DATES: We must receive comments by January 10, 2019.

ADDRESSES:

Obtaining Documents: The applications, application supporting materials, and any comments and other materials that we receive will be available for public inspection at http://www.regulations.gov in Docket No. FWS-HQ-IA-2018-0083.

Submitting Comments: When submitting comments, please specify the name of the applicant and the permit number at the beginning of your comment. You may submit comments by one of the following methods:

• Internet: http://www.regulations.gov. Search for and submit comments on Docket No. FWS-HQ-IA-2018-0083.

• U.S. mail or hand-delivery: Public Comments Processing, Attn: Docket No. FWS-HQ-IA-2018-0083; U.S. Fish and Wildlife Service Headquarters, MS: BPHC; 5275 Leesburg Pike; Falls Church, VA 22041-3803.

For more information, see Public Comment Procedures under SUPPLEMENTARY INFORMATION.

FOR FURTHER INFORMATION CONTACT: Brenda Tapia, by phone at 703-358-2104, via email at DMAFR@fws.gov, or via the Federal Relay Service at 800-877-8339.

SUPPLEMENTARY INFORMATION:

I. Public Comment Procedures

A. How do I comment on submitted applications?

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Please make your requests or comments as specific as possible, confine your comments to issues for which we seek comments in this notice, and explain the basis for your comments. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments on http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(a)(1)(A) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit activities with listed species unless Federal authorization is acquired that allows such activities. Permits issued under section 10 of the ESA allow activities for scientific purposes or to enhance the propagation or survival of the affected species. Regulations regarding permit issuance under the ESA are in title 50 of the Code of Federal Regulations in part 17. ESA permits cover a wide range of activities pertaining to foreign listed species, including activities related to the captive-breeding of such species here in the United States. Concurrent with publishing this notice in the Federal Register, we are forwarding copies of the marine mammal applications to the Marine Mammal Commission and the Committee of Scientific Advisors for their review.

III. Permit Applications

We invite comments on the following applications.

A. Endangered Species

Applicant: Field Museum of Natural History, Chicago, IL; Permit No. 93295C

The applicant requests a permit to import scientific samples of ocelot (Leopardus pardalis mitis), jaguar (Panthera onca), and South American tapir (Tapirus terrestris) from Brazil for the purposes of scientific research. This notification is for a single import.

Applicant: Wild Cat Education & Conservation Fund, Occidental, CA; Permit No. 97801C

The applicant requests a permit to purchase a captive-born snow leopard (Uncia uncia) from Tanganyika Wildlife Park, Goddard, KS, for the purpose of enhancing the propagation or survival of the species. This notification is for a single transfer.

Applicant: James Madison University, Harrisonburg, VA; Permit No. 88299C

The applicant requests a permit to import scientific samples of Verreaux's sifaka (Propithecus verreauxi) from Madagascar for the purpose of scientific research. This notification covers activities to be conducted by the applicant over a 5-year period.

Applicant: Wildlife Conservation Society, Bronx, NY; Permit No. 99617C

The applicant requests a permit to export two male and two female captive-bred African wild dogs (Lycaon pictus) to Canada for the purpose of enhancing the propagation or survival of the species. This notification is for a single export.

Applicant: Indiana University-Purdue University Fort Wayne, Fort Wayne, IN; Permit No. 80987C

The applicant requests a permit to import scientific samples of leatherback sea turtles (Dermochelys coriacea) from Equatorial Guinea for the purpose of scientific research. This notification covers activities to be conducted by the applicant over a 5-year period.

Applicant: U.S. Fish and Wildlife Service, Abingdon, VA; Permit No. 85964C

The applicant requests a permit to export wild Lee County cave isopods (Lirceus usdaglun) taken in Lee County, VA, to University Claude Bernard Lyon, Villeurbanne Cedex, France, for the purpose of scientific research. This notification is for a single export.

Applicant: University of Wisconsin—Madison, Madison, WI; Permit No. 93299C

The applicant requests authorization to import biological samples from captive-bred and wild orangutans (Pongo pygmaeus) from multiple locations for the purpose of enhancing the propagation or survival of the species through scientific research. This notification covers activities to be conducted by the applicant over a 5-year period.

Applicant: Eastern Connecticut State University, Willimantic, CT; Permit No. 00760D

The applicant requests a permit to import biological samples of wild roseate terns (Sterna dougallii dougallii) from Canada for the purpose of scientific research. This notification is for a single import.

Applicant: Forrest Simpson, Conroe, TX; Permit No. 99011C

The applicant requests a captive-bred wildlife registration under 50 CFR 17.21(g) for barasingha (Rucervus duvaucelii), which is listed at 50 CFR 17.11(h) as swamp deer (Cervus duvauceli), to enhance the propagation or survival of the species. This notification covers activities to be conducted by the applicant over a 5-year period.

Applicant: Zoological Society of San Diego, San Diego, CA; Permit No. 93568C

The applicant requests a captive-bred wildlife registration under 50 CFR 17.21(g) for the following families: Bufonidae, Accipitridae, Alcedinidae, Anatidae, Cacatuidae Cathartidae, Columbidae, Cracidae, Gruidae, Megapodiidae, Phasianidae, Psittacidae, Rallidae, Rhynochetidae, Spheniscidae, Sturnidae, Threskiornithidae, Antilocapridae, Artiodactyla, Bovidae, Canidae, Callithricidae, Cercopithecidae, Cervidae, Moschidae, Daubentoniidae, Elephantidae, Equidae, Felidae, Hominidae, Hylobatidae, Indridae, Lemuridae, Macropodidae, Potoroidae, Pteropodidae, Rhinocerotidae, Tapiridae, Ursidae, Crocodylidae, Gavialidae, Geoemydidae, and Iguanidae, excluding Cyclura lewisi, Testudinidae, and Varanidae, to enhance the propagation or survival of the species. This notification covers activities to be conducted by the applicant over a 5-year period.

Common Name | Scientific Name
Panamanian golden frog | Atelopus zeteki.
harpy eagle | Harpia harpyja.
Guam kingfisher | Todiramphus cinnamominus.
Laysan duck | Anas laysanensis.
white-winged duck | Asarcornis scutulata.
white cockatoo | Cacatua alba.
Andean condor | Vultur gryphus.
pink pigeon | Nesoenas mayeri.
blue-billed curassow | Crax alberti.
red-crowned crane | Grus Japonensis.
Maleo | Macrocephalon maleo.
Blyth's tragopan | Tragopan blythii blythii.
Edward's pheasant | Lophura edwardsi.
Palawan peacock-pheasant | Polyplectron napoleonis.
blue-throated conure | Pyrrhura cruentata.
Cuban Amazon | Amazona leucocephala leucocephala.
great green macaw | Ara ambiguus ambiguus.
blue-throated macaw | Ara glaucogularis.
Military macaw | Ara militaris.
scarlet-chested parrot | Neophema splendida.
salmon-crested cockatoo | Cacatua moluccensis.
Guam rail | Hypotaenidia owstoni.
Kagu | Rhynochetos jubatus.
African penguin | Spheniscus demersus.
Bali myna | Leucopsar rothschildi.
Waldrapp Ibis | Geronticus eremita.
Baja pronghorn | Antilocapra americana peninsularis.
lowland Anoa | Bubalus depressicornis.
Addax | Addax nasomaculatus.
Addra gazelle | Nanger dama ruficollis.
Arabian oryx | Oryx leucoryx.
Bontebok | Damaliscus pygargus pygargus.
Cuvier's gazelle | Gazella cuvieri.
Indian gaur | Bos frontalis gaurus.
Javan banteng | Bos Javanicus javanicus.
Scimitar-horned oryx | Oryx dammah.
Slender-horned gazelle | Gazella leptoceros leptoceros.
Zambesi lechwe | Kobus leche leche.
Chinese dhole | Cuon alpinus lepturus.
Maned wolf | Chrysocyon brachyurus.
golden lion Tamarin | leontopithecus rosalia.
golden-headed lion tamarin | leontopithecus chrysomelas.
Francois' langur | Trachypithecus francoisi.
Gelada baboon | Theropithecus gelada.
lion-tailed Macaque | Macaca silenus.
Mandrill | Mandrillus sphinx.
Bactrian wapiti | Cervus elaphus bactrianus.
Barasingha | Rucervus duvaucelii duvaucelii.
Barbary red deer | Cervus elaphus barbarus.
Burmese Thamin | Rucervus eldii thamin.
Mandarin sika | Cervus nippon mandarinus.
Southern Pudu | Pudu puda.
Siberian musk deer | Moschus moschiferus moschiferus.
Aye-Aye | Daubentonia madagascariensis.
African bush elephant | Loxodonta africana africana.
Ceylon elephant | Elephas maximus maximus.
Indian elephant | Elephas maximus indicus.
Grevy's zebra | Equus grevyi.
Przewalski's wild horse | Equus caballus przewalskii.
Somali wild ass | Equus africanus somaliensis.
Amur leopard | Panthera pardus orientalis
Black-footed cat | Felis nigripes.
clouded leopard | Neofelis nebulosa nebulosa.
African lion | Panthera leo melanochaita.
Malayan tiger | Panthera tigris Jacksoni.
snow leopard | Uncia uncia.
cheetah | Acinonyx jubatus.
tiger | Panthera tigris.
Bonobo | Pan paniscus.
Bornean orangutan | Pongo pygmaeus.
Sumatran orangutan | Pongo abelii.
Western Lowland gorilla | Gorilla gorilla gorilla.
red-cheeked gibbon | Nomascus gabriellae.
Siamang | Symphalangus syndactylus.
Coquerel's Sifaka | Propithecus coquereli.
black-and-white ruffed lemur | Varecia variegata variegata.
blue-eyed black lemur | Eulemur flavifrons.
red ruffed lemur | Varecia rubra.
red-collared lemur | Eulemur collaris.
ring-tailed lemur | Lemur catta.
pygmy slow Loris | Nycticebus pygmaeus.
Parma wallaby | Macropus parma.
Southern yellow-footed rock wallaby | Petrogale xanthopus xanthopus.
Koala | Phascolarctos cinereus.
Woylie | Bettongia penicillata.
Rodrigues flying fox | Pteropus rodricensis.
black rhinoceros | Diceros bicornis.
Great Indian rhinoceros | Rhinoceros unicornis.
Southern white rhinoceros | Ceratotherium simum simum.
Baird's tapir | Tapirus bairdii.
Malayan tapir | Tapirus indicus indicus.
giant panda | Ailuropoda melanoleuca.
Chinese alligator | Alligator sinensis.
slender-snouted crocodile | Mecistops cataphractus.
dwarf crocodile | Osteolaemus tetraspis.
Gharial | Gavialis gangeticus.
spotted pond turtle | Geoclemys hamiltonii.
river terrapin | Batagur baska.
Fijian banded iguana | Brachylophus bulabula.
Grand Cayman blue iguana | Cyclura lewisi.
Jamaican iguana | Cyclura collei.
Galapagos tortoise | Chelonoidis nigra.
radiated tortoise | Astrochelys radiata.
Komodo dragon | Varanus komodoensis.

Applicant: Uno Mas Ranch LLC, Brandera, TX; Permit No. 99164C

The applicant requests a captive-bred wildlife registration under 50 CFR 17.21(g) for Arabian oryx (Oryx leucoryx) to enhance the propagation or survival of the species. This notification covers activities to be conducted by the applicant over a 5-year period.

Applicant: Audubon Nature Institute, New Orleans, LA; Permit No. 86989C

The applicant requests a captive-bred wildlife registration under 50 CFR 17.21(g) for African wild dogs (Lycaon pictus), babirusa (Babyrousa babyrussa), swamp deer (Cervus duvauceli), pudu (Pudu pudu), Asian elephant (Elephas maximus), leopard (Panthera pardus), Komodo Island monitor (Varanus komodoensis), Sumatran orangutan (Pongo abelii), Panamanian golden frog (Atelopus varius zeteki), tomistoma (Tomistoma schlegelii), and Fiji banded iguana (Brachylophus fasciatus) to enhance the propagation or survival of the species. This notification covers activities to be conducted by the applicant over a 5-year period.

Applicant: L.A. Waters Ranch, LLC, Utopia, TX; Permit No. 95637C

The applicant requests a captive-bred wildlife registration under 50 CFR 17.21(g) for African wild ass (Equus africanus) and barasingha (Rucervus duvaucelii), which is listed at 50 CFR 17.11(h) as swamp deer (Cervus duvauceli), to enhance the propagation or survival of the species. This notification covers activities to be conducted by the applicant over a 5-year period.

Multiple Applicants

The following applicants request permits to import sport-hunted trophies of male bontebok (Damaliscus pygargus pygargus) culled from a captive herd maintained under the management program of the Republic of South Africa, for the purpose of enhancing the propagation or survival of the species.

Applicant: Jeffery Hammond, Burns, WY; Permit No. 02623D

Applicant: Jeremy Hammond, Cody, WY; Permit No. 02624D

Applicant: Leslie Hathaway, Portland, IN; Permit No. 02625D

Applicant: Michael Dyson, Irving, TX; Permit No. 02612D

Applicant: Matthew Bell, Midland, TX; Permit No. 03114D

Applicant: Charles Bowlin, Shreveport, LA; Permit No. 02359D

Applicant: Donald Pflaum, Cavalier, ND: Permit No. 05672D

B. Marine Mammals

Applicant: U.S. Geological Survey, Alaska Science Center, Anchorage, AK; Permit No. 690038

The applicant requests renewal of a permit to conduct research activities on polar bears (Ursus maritimus) in the Southern Beaufort and Chukchi-Bering Seas, and to export and import samples of fat, blood, fur, skin, bones, claws, feces, DNA products, and teeth. This notification covers activities to be conducted by the applicant over a 5-year period.

IV. Next Steps

If we issue permits to any of the applicants listed in this notice, we will publish a notice in the Federal Register. You may locate the notice announcing the permit issuance by searching http://www.regulations.gov for the permit number listed above in this document. For example, to find information about the potential issuance of Permit No. 12345A, you would go to http://www.regulations.gov and search for “12345A”.

V. Authority

We issue this notice under the authority of the Endangered Species Act of 1973, as amended (16 U.S.C. 1531 et seq.), and its implementing regulations, and the Marine Mammal Protection Act of 1972, as amended (MMPA; 16 U.S.C. 1361 et seq.), and its implementing regulations.

Brenda Tapia,
Program Analyst/Data Administrator, Branch of Permits, Division of Management Authority.

[FR Doc. 2018-26757 Filed 12-10-18; 8:45 am]

BILLING CODE 4333-15-P